DEPARTMENT OF COMMERCE

International Trade Administration

[A-570-887]

Notice of Postponement of Final Determination of Antidumping Duty Investigation: Tetrahydrofurfuryl Alcohol from the People's Republic of China

AGENCY: Import Administration, International Trade Administration, Department of Commerce.

ACTION: Notice of postponement of final determination of antidumping duty investigation.

EFFECTIVE DATE: March 15, 2004.

FOR FURTHER INFORMATION CONTACT: Catherine Bertrand or Peter Mueller, Import Administration, International Trade Administration, U.S. Department of Commerce, 14th Street and Constitution Avenue, NW., Washington, DC 20230; telephone: (202) 482-3207 and (202) 482-5811 respectively.

SUPPLEMENTARY INFORMATION:

Background

This investigation was initiated on July 14, 2003. See Notice of Initiation of Antidumping Duty Investigation: Tetrahydrofurfuryl Alcohol from the People's Republic of China, 68 FR 42686 (July 18, 2003) . The period of investigation (“POI”) is October 1, 2002 through March 31, 2003. On January 27, 2004, the Department of Commerce (“Department”) published the notice of preliminary determination. See Notice of Preliminary Determination of Sales at Less Than Fair Value: Tetrahydrofurfuryl Alcohol from the People's Republic of China, 69 FR 3887 (January 27, 2004).

Postponement of Final Determination

Section 735(a)(2) of the Tariff Act of 1930 (“the Act”) provides that a final determination may be postponed until not later than 135 days after the date of the publication of the preliminary determination if, in the event of an affirmative determination, a request for such postponement is made by exporters who account for a significant proportion of exports of the subject merchandise, or in the event of a negative preliminary determination, a request for such postponement is made by petitioner. The Department's regulations, at 19 CFR 351.210(e)(2), require that requests by respondents for postponement of a final determination be accompanied by a request for extension of provisional measures from a four-month period to not more than six months. See 19 CFR 351.210(e)(2).

On February 27, 2004, the respondent Qingdao Wenkem (F.T.Z.) Trading Company Limited (“QWTC”) requested a nine-week extension of the final determination and also requested an extension of the provisional measures. In accordance with 19 CFR 351.210(b), because (1) our preliminary determination is affirmative, (2) QWTC accounts for a significant proportion of exports of the subject merchandise, and (3) no compelling reasons for denial exist, we are extending the due date for the final determination until no later than 135 days after the publication of preliminary determination in the Federal Register. Therefore, the final determination is now due on June 10, 2004. Suspension of liquidation will be extended accordingly.

This notice is published in accordance with section 735(a)(2) of the Act.

Dated: March 8, 2004.
James J. Jochum,
Assistant Secretary for Import Administration.

[FR Doc. 04-5799 Filed 3-12-04; 8:45 am]

BILLING CODE 3510-DS-S